DEPARTMENT OF HEALTH AND HUMAN SERVICES

Health Resources and Services Administration

Agency Information Collection Activities: Proposed Collection: Public Comment Request Information Collection Request Title: The HRSA Community-Based Outreach Reporting Module, OMB # 0906-0064, Extension

AGENCY: Health Resources and Services Administration (HRSA), Department of Health and Human Services.

ACTION: Notice.

SUMMARY: HRSA requests an extension to continue data collection for the Community-Based Workforce for COVID-19 Vaccine Outreach Programs (CBO Programs) (OMB # 0906-0064). In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 15, 2021.

ADDRESSES: Submit your comments to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer, at (301) 443-1984.

SUPPLEMENTARY INFORMATION: When submitting comments or requesting information, please include the information collection request title for reference.

Information Collection Request Title: The HRSA Community-Based Outreach Reporting Module, OMB # 0906-0064, Extension.

Abstract: HRSA requests approval of an extension of the current emergency ICR to continue data collection for the Community-Based Workforce for COVID-19 Vaccine Outreach Programs (CBO Programs), which support nonprofit private or public organizations to establish, expand, and sustain a public health workforce to prevent, prepare for, and respond to COVID-19. This data is needed to comply with requirements to monitor funds distributed under the American Rescue Plan Act of 2021 and in accordance with OMB Memorandum M-21-20.

Need and Proposed Use of the Information: HRSA is requesting approval from OMB for an extension of the current emergency data collection module to support HRSA's Healthcare Systems Bureau and Office of Planning, Analysis, and Evaluation requirements to monitor and report on funds distributed. As part of the American Rescue Plan Act of 2021, signed into law on March 11, 2021 (Pub. L. 117-2), HRSA has awarded nearly $250 million to develop and support a community-based workforce that will engage in locally tailored efforts to build vaccine confidence and bolster COVID-19 vaccinations in underserved communities. In June and July, under the CBO Programs, HRSA awarded funding to over 140 local and national organizations. These organizations are responsible for educating and assisting individuals in accessing and receiving COVID-19 vaccinations. This includes activities such as conducting direct face-to-face outreach and other forms of direct outreach to community members to educate them about the vaccine, assisting individuals in making a vaccine appointment, providing resources to find convenient vaccine locations, and assisting individuals with transportation or other needs to get to a vaccination site. The program will address persistent health disparities by offering support and resources to vulnerable and medically underserved communities, including racial and ethnic minority groups and individuals living in areas of high social vulnerability.

HRSA is proposing a new data reporting module—the Community-Based Vaccine Outreach Program Reporting Module—to collect information on CBO Program-funded activities. The CBO Program will collect monthly progress report data from funded organizations. This data will be related to the public health workforce, the vaccine outreach activities performed by this workforce, and the individuals who received vaccinations by this workforce in a manner that assesses equitable access to vaccine services and that the most vulnerable populations and communities are reached. This data will allow HRSA to clearly identify how the funds are being used and monitored throughout the period of performance and to ensure that high-need populations are being reached and vaccinated. Responses to some data requirements are only reported during the initial reporting cycle (e.g., the name, location, affiliation, etc. of the individual supporting community outreach), though respondents may update the data should any of that change during the duration of the reporting period.

Likely Respondents: Respondents are community outreach workers employed by entities supported by HRSA grant funding over a period of either 6 months (HRSA-21-136) or 12 months (HRSA-21-140).

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours:

Form name | Number of unique organizations funded through the two programs | Number of respondents | Number of responses per respondent | Total responses | Average burden per response (in hours) | Total burden hours
Community outreach worker profile form | 14 cooperative agreement awards for HRSA-21-136 and 127 grant awards for HRSA-21-136 | Total number of Community outreach workers deployed through the work of the two programs | One response per respondent | Reported once across the duration of the programs (the period of performance for HRSA-21-136 is 6 months, and for HRSA-21-140 is 12 months) | Sampled response times of approximately 15 minutes per response | Total hours spent on responses for all funded organizations over a 2-year period.
| 131 (est.) | 3,000 (est.) | 1 | 3,000 | 0.27 hours | 800.

Form name | Number of community outreach workers | Number of respondents over the period of the programs | Number of responses per respondent | Total responses | Average burden per response (in hours) | Total burden hours
Vaccine-site data—outreach to community members form | Number of community outreach workers deployed for 6 months (HRSA-21-136) or 12 months (HRSA-21-140) of support | Number of community members in contact with community outreach workers | One response per respondent or less (e.g., one response from the audience of a group outreach event) | Reported once across the duration of the programs (the period of performance for HRSA-21-136 is 6 months, and for HRSA-21-140 is 12 months) | Sampled response times of approximately 6 minutes per response | Total hours spent on responses for all funded organizations over a 2-year period.
| 3,000 (est.) | 4,000,000 (est.) | 1 | 4,000,000 | 0.12 hours | 466,667.
General outreach activities for community members form | Number of community outreach workers deployed for 6 months (HRSA-21-136) or 12 months (HRSA-21-140) of support | Number of community members in contact with community outreach workers | One response per respondent or less (e.g., one response from the audience of a group outreach event) | Reported once across the duration of the programs (the period of performance for HRSA-21-136 is 6 months, and for HRSA-21-140 is 12 months) | Sampled response times of approximately 6 minutes per response | Total hours spent on responses for all funded organizations over a 2-year period.
| 3,000 (est.) | 4,000,000 (est.) | 1 | 4,000,000 | 0.12 hours | 466,667.
Grand Total | 8,003,000 (est.) |  |  | 8,003,000 (est.) |  | 934,134.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-17495 Filed 8-13-21; 8:45 am]

BILLING CODE 4165-15-P